DEPARTMENT OF ENERGY

Federal Energy Regulatory Commission

[Project No. 6032-041]

Niagara Mohawk Power Corporation and Fourth Branch Associates; Notice of Site Visit

August 7, 2001.

On Wednesday, August 22, 2001 the Office of Energy Projects staff will conduct a site visit of the Mechanicville Project licensed to the Niagara Mohawk Power Corporation and Fourth Branch Associates. The purpose of the site visit is to review the project features identified by commentors and intervenors in the implied surrender proceeding currently before the Commission. The inspection will begin at 2 PM at the Mechanicville Project located on New York State Route 32 in the Town of Half Moon, New York.

All interested parties may attend the inspection. For further information, please contact the Commission's Office of External Affairs at (202) 208-0004.

David P. Boergers,
Secretary.

[FR Doc. 01-20244 Filed 8-10-01; 8:45 am]

BILLING CODE 6717-01-P